DEPARTMENT OF HEALTH AND HUMAN SERVICES

Food and Drug Administration

[Docket No. FDA-2004-F-0069] (formerly Docket No. 2004F-0455)

Sterigenics International, Inc.; Withdrawal of Food Additive Petition

AGENCY: Food and Drug Administration, HHS.

ACTION: Notice.

SUMMARY: The Food and Drug Administration (FDA) is announcing the withdrawal, without prejudice to a future filing, of a food additive petition (FAP 3M4744) proposing that the food additive regulations be amended to provide for the safe use of ionizing radiation in the production of shelf stable foods, including multiple ingredient shelf stable foods.

FOR FURTHER INFORMATION CONTACT: Lane A. Highbarger, Center for Food Safety and Applied Nutrition (HFS-255), Food and Drug Administration, 5100 Paint Branch Pkwy., College Park, MD 20740-3835, 301-436-1204.

SUPPLEMENTARY INFORMATION: In a notice published in the Federal Register of November 30, 2004 (69 FR 69606), FDA announced that a food additive petition (FAP 3M4744) had been filed by Sterigenics International, Inc., P.O. Box 17349, Memphis, TN 31817-0349 (current address 2015 Spring Rd., suite 650, Oak Brook, IL 60523). The petition proposed to amend the food additive regulations in 21 CFR part 179 Irradiation in the Production, Processing and Handling of Food to provide for the safe use of ionizing radiation in the production of fully cooked shelf stable foods, including fully cooked multiple ingredient shelf stable foods, where the absorbed dose required to cause a 12-log reduction in Clostridium botulinum has been established. Sterigenics International, Inc., has now withdrawn the petition without prejudice to a future filing (21 CFR 171.7).

Dated: June 30, 2010.
Mitchell A. Cheeseman,
Acting Director, Office of Food Additive Safety, Center for Food Safety and Applied Nutrition.

[FR Doc. 2010-16884 Filed 7-12-10; 8:45 am]

BILLING CODE 4160-01-S